ENVIRONMENTAL PROTECTION AGENCY

[FRL-7405-2]

Comprehensive Environmental Response, Compensation and Liability Act (CERCLA) or Superfund, Section 104(k)(6); “Announcement of Implementation of Brownfields Job Training Grants”

AGENCY: Environmental Protection Agency.

ACTION: Notice of an opportunity to provide comments on EPA's draft fiscal year 2003 Brownfields job training grant application guidelines.

SUMMARY: The Environmental Protection Agency (EPA) is interested in obtaining the views of interested stakeholders on a draft of the Agency's fiscal year 2003 Brownfields job training grant application guidelines (FY 03 Job Training Guidelines). EPA will make the draft FY 03 Job Training Guidelines available to the public on the Agency's Web site at http://www.epa.gov/brownfields. Interested stakeholders and the public are encouraged to download and review the draft guidelines and provide comments by seven calendar days following the publication date of the federal register notice.

DATES: EPA will post the guidelines on the Agency's Web site on November 6, 2002. Those parties that wish to submit written comments on the draft Brownfields Grants Guidelines must submit their comments to EPA no later than one week (seven calendar days) after the publication of the Federal Register notice.

ADDRESSES: To ensure that EPA has adequate time to consider any written comments, the Agency encourages parties to submit their comments to the Agency in electronic format. Electronic comments may be submitted to EPA's Office of Brownfields Cleanup and Redevelopment at BF.comments@epa.Gov. Parties wishing to submit their comments via the united States Postal Service should address their comments to: Ms. LaKisha Odom, U.S. Environmental Protection Agency, Office of Brownsfields Cleanup and Redevelopment, MC-5105T, 1200 Pennsylvania Avenue NW., Washington, DC 20460.

FOR FURTHER INFORMATION CONTACT: For additional information, contact EPA's Office of the Brownfields Cleanup and Redevelopment at 202-566-2777.

SUPPLEMENTARY INFORMATION: The FY 03 Job training Guidelines will be issued under section 104(k)(6) of the Comprehensive Environmental Response, Compensation, and Liability Act (CERLA) as amended by the recently enacted Small Business Liability Relief and Brownfields Revitalization Act, PL 107-118 (SBLRBRA). Guidelines for grant programs are exempt from notice and comment requirements under 5 U.S.C. 552(a)(2). However, the Agency has decided that consultation with public stakeholders prior to issuing the final version of the FY 03 Job Training Guidelines is an appropriate step in effectively implementing SBLRBRA.

All written comments must be received by the Agency no later than seven calendar days from federal notice publication. The Agency will carefully consider written comments received during the public comment period, prior to issuing final Brownfields Job Training Grant Application Guidelines in November, 2002. 2002. However, due to the need to promptly provide the final FY 03 Job Training Guidelines to potential applicants, EPA does not plan to respond in writing to written comments.

Dated: October 24, 2002.
Linda Garczynski,
Director, Office of Brownfields Cleanup and Redevelopment, Office of Solid Waste and Emergency Response.

[FR Doc. 02-28211 Filed 11-5-02; 8:45 am]

BILLING CODE 6560-50-M